DEPARTMENT OF DEFENSE

GENERAL SERVICES ADMINISTRATION

NATIONAL AERONAUTICS AND SPACE ADMINISTRATION

48 CFR Parts 1, 2, 3, 5, 6, 7, 8, 12, 13, 15, 16, 17, 19, 22, 23, 28, 32, 36, 42, 43, 50, and 52

[FAR Case 2008-024; Docket 2010-0079, Sequence 1]

RIN 9000-AL51

Federal Acquisition Regulation; FAR Case 2008-024, Inflation Adjustment of Acquisition-Related Thresholds

AGENCIES: Department of Defense (DoD), General Services Administration (GSA), and National Aeronautics and Space Administration (NASA).

ACTION: Proposed rule.

SUMMARY: The Civilian Agency Acquisition Council and the Defense Acquisition Regulations Council (Councils) are proposing to amend the Federal Acquisition Regulation (FAR) to implement Section 807 of the Ronald W. Reagan National Defense Authorization Act for Fiscal Year 2005. The Act requires an adjustment every 5 years of acquisition-related thresholds for inflation using the Consumer Price Index for all urban consumers, except for Davis-Bacon Act, Service Contract Act, and trade agreements thresholds. The Councils are also proposing to use the same methodology to change nonstatutory FAR acquisition-related thresholds for adjustment in 2010.

DATES: Interested parties should submit written comments to the Regulatory Secretariat on or before April 5, 2010 to be considered in the formulation of a final rule.

ADDRESSES: Submit comments identified by FAR case 2008-024 by any of the following methods:

• Regulations.gov: http://www.regulations.gov. Submit comments via the Federal eRulemaking portal by inputting “FAR Case 2008-024” under the heading “Comment or Submission.” Select the link “Send a Comment or Submission” that corresponds with FAR Case 2008-024. Follow the instructions provided to complete the “Public Comment and Submission Form.” Please include your name, company name (if any), and “FAR Case 2008-024” on your attached document.

• Fax: 202-501-4067.

• Mail: General Services Administration, Regulatory Secretariat (MVPR), 1800 F Street, NW., Room 4041, ATTN: Hada Flowers, Washington, DC 20405.

Instructions: Please submit comments only and cite FAR case 2008-024 in all correspondence related to this case. All comments received will be posted without change to http://www.regulations.gov, including any personal and/or business confidential information provided.

FOR FURTHER INFORMATION CONTACT: Mr. Michael Jackson, Procurement Analyst, at (202) 208-4949 for clarification of content. For information pertaining to status or publication schedules, contact the Regulatory Secretariat at (202) 501-4755. Please cite FAR case 2008-024.

SUPPLEMENTARY INFORMATION:

A. Background

This rule proposes to amend multiple FAR parts to implement Section 807 of the Ronald W. Reagan National Defense Authorization Act for Fiscal Year (FY) 2005 (Pub. L. 108-375). Section 807 requires an adjustment every 5 years (in years evenly divisible by 5) of acquisition-related thresholds for inflation using the Consumer Price Index for all urban consumers, except for Davis-Bacon Act, Service Contract Act, and trade agreements thresholds (see FAR 1.109). The Councils are also proposing to use the same methodology to change nonstatutory FAR acquisition-related thresholds for adjustment in 2010.

This is the second review of FAR acquisition-related thresholds. The last review was conducted under FAR case 2004-033 during FY 2005. The final rule was published in the Federal Register on September 28, 2006 (71 FR 57363).

B. Analysis

1. What is an acquisition-related threshold?

This case builds on the review of FAR thresholds in FY 2005 and uses the same interpretation of the statutory definition of acquisition-related threshold. The statute defines an acquisition-related dollar threshold as a dollar threshold that is specified in law as a factor in defining the scope of the applicability of a policy, procedure, requirement, or restriction provided in that law to the procurement of property or services by an executive agency, as determined by the FAR Council.

There are other thresholds in the FAR that, while not meeting this statutory definition of “acquisition-related,” nevertheless meet all the other criteria. These thresholds may have their origin in executive order or regulation.

Therefore, as used in this case, an acquisition-related threshold is a threshold that is specified in law, executive order, or regulation as a factor in defining the scope of the applicability of a policy, procedure, requirement, or restriction provided in that law, executive order, or regulation to the procurement of property or services by an executive agency, as determined by the FAR Council. The Councils conclude from this definition that acquisition-related thresholds are generally tied to the value of a contract, subcontract, or modification.

Examples of thresholds that are not viewed as “acquisition-related” as defined in this case are thresholds relating to claims, penalties, withholding, payments, required levels of insurance, small business size standards, liquidated damages, etc. This report does not address thresholds that are not acquisition-related.

2. What acquisition-related thresholds are not subject to escalation adjustment under this case?

The statute does not permit escalation of acquisition-related thresholds established by the Davis-Bacon Act, the Service Contract Act, or the United States Trade Representative pursuant to the authority of the Trade Agreements Act of 1979.

The statute does not authorize the FAR to escalate thresholds originating in executive order or the implementing agency (such as the Department of Labor or the Small Business Administration), unless the executive order or agency regulations are first amended.

3. How do the Councils analyze a statutory acquisition-related threshold?

If an acquisition-related threshold is based on statute, the matrix at http://www.regulations.gov (search FAR case 2008-024) identifies the statute, and the statutory threshold, both the original threshold and any revision to it in 2006.

With the exception of thresholds set by the Davis-Bacon Act, Service Contract Act, and the United States Trade Representative pursuant to the authority of the Trade Agreements Act of 1979, the statute requires that the FAR Council adjust the acquisition-related thresholds for inflation using the Consumer Price Index (CPI) for all-urban consumers. Acquisition-related thresholds in statutes that were in effect on October 1, 2000 are only subject to escalation from that date forward. For purposes of this proposed rule, the matrix includes calculation of escalation based on the CPI from October 2000 to April 2010. Inflation from the average CPI value for 2007 to the average value for 2008 was 3.8 percent. The Councils have currently estimated the inflation for the next year at 4.2 percent, but will subsequently adjust as necessary before issuance of the final rule. Acquisition-related thresholds in statutes that took effect after October 1, 2000 are escalated from the date that they took effect.

Once the escalation factor is applied to the acquisition-related threshold, then the threshold must be rounded as follows:

< $10,000 | Nearest $500.
$10,000-< $100,000 | Nearest $5,000.
$100,000-< $1,000,000 | Nearest $50,000.
$1,000,000 or more | Nearest $500,000.

The calculations in this proposed rule are all based on the base year amount, because escalated amounts in the 2005 rule were subject to rounding and using them as the base would distort future calculations.

In 2005, thresholds of $1,000, $10,000, $100,000, and $1,000,000, although subject to inflation calculation, did not actually change, because the inflation in 2005 was insufficient to overcome the rounding requirements—the escalation factor, when applied, did not cause the escalated values to be high enough to round to the next higher value. However, in FY 2010, these thresholds will now escalate because of 5 additional years of inflation.

Section 807(c) of the statute states that this statute supersedes the applicability of any other provision of law that provides for the adjustment of any acquisition-related threshold that is adjustable under this statute.

The thresholds for defining a major system were previously stated in Fiscal Year 1990 constant dollars for DoD and in Fiscal Year 1980 constant dollars for civilian agencies. The 2005 rule converted these major system thresholds to current year dollars, as of the date that the statute was enacted, that will now be adjusted every 5 years and both DoD and civilian agencies now abide by these thresholds.

This proposed rule has been coordinated with the Department of Labor and the Small Business Administration in areas of the regulation for which they are the lead agency. As appropriate, changes to cost accounting standards (CAS) thresholds will be dealt with under a separate case.

4. How do the Councils analyze a nonstatutory acquisition-related threshold?

No statutory authorization is required to escalate thresholds that were set as policy within the FAR. Escalation of the FAR policy acquisition-related thresholds is recommended using the same formula applied to the statutory thresholds, unless a reason has been provided for not doing so. Escalation is calculated using the same procedures as were explained for the statutory thresholds, to provide consistency.

In one case where a non-acquisition-related threshold was intended to equal the micro-purchase threshold, the Councils have revised it to specifically reference the micro-purchase threshold, in order to provide future escalation under follow-on cases (FAR 52.209-5).

5. What is the effect of this proposed rule on the most heavily-used thresholds?

This rule includes the following proposed changes to heavily-used thresholds:

• The micro-purchase base threshold of $3,000 (FAR 2.101) will not be changed.

• The simplified acquisition threshold (FAR 2.101) will be raised from $100,000 to $150,000.

• The FedBizOpps preaward and post-award notices (FAR Part 5) remain at $25,000 because of trade agreements.

• Commercial items test program ceiling (FAR 13.500) will be raised from $5,500,000 to $6,500,000.

• The cost and pricing data threshold (FAR 15.403-4) will be raised from $650,000 to $700,000.

• The prime contractor subcontracting plan (FAR 19.702) floor will be raised from $550,000 to $650,000, and the construction threshold of $1,000,000 increases to $1,500,000.

This proposed rule is based on a projected CPI of 222 in April 2010. If the actual CPI in April 2010 is higher than 222, then additional statutory thresholds will be subject to escalation in the final rule, even though not included in the proposed rule. For example, if the CPI is 224 in April 2010 (an inflation rate of about 5 percent), the following statutory thresholds will increase as indicated in the table, although not included in the text of this proposed rule:

FAR 2.101(b) “micropurchase threshold” | $15,000 | $20,000
FAR 2.101(b) “small business subcontractor” | 10,000 | 15,000
FAR 13.003(b), FAR 13.201(g), and FAR 19.502-1(b) | 15,000 | 20,000

This proposed rule is a significant regulatory action and, therefore, was subject to review under Section 6(b) of Executive Order 12866, Regulatory Planning and Review, dated September 30, 1993. This rule is not a major rule under 5 U.S.C. 804.

C. Regulatory Flexibility Act

The Councils do not expect this proposed rule to have a significant economic impact on a substantial number of small entities within the meaning of the Regulatory Flexibility Act, 5 U.S.C. 601, et seq., because the adjustment of acquisition-related thresholds for inflation is intended to maintain the status quo. The Councils note that the set-aside threshold of $100,000 increases to $150,000, which is not believed to be a detriment to small business. An Initial Regulatory Flexibility Analysis has, therefore, not been performed. The Councils invite comments from small business concerns and other interested parties on the expected impact of this rule on small entities.

The Councils will also consider comments from small entities concerning the existing regulations in parts affected by this rule in accordance with 5 U.S.C. 610. Interested parties must submit such comments separately and should cite 5 U.S.C. 610 (FAR Case 2008-024) in correspondence.

D. Paperwork Reduction Act

The Paperwork Reduction Act does apply. The proposed changes to the FAR do not impose new information collection requirements that require the approval of the Office of Management and Budget under 44 U.S.C. 3501, et seq. By adjusting the thresholds for inflation, they maintain at the status quo the current information collection requirements under the following OMB clearance numbers: 9000-0006, Subcontracting Plans/Subcontracting Report for Individual Contract (SF 294)—Sections Affected: Subpart 19.7, 52.219-9; 9000-0007, Summary Subcontract Report—FAR Sections Affected: Subpart 19.7, 53.219, SF 295; 9000-0013, Cost or Pricing Data Exemption—FAR Sections Affected: Subparts 15.4, 42.7, 52.214-28, 52.215-12, 52.215-13, 52.215-20, 52.215-21; 9000-0018, Certification of Independent Price Determination and Parent Company and Identifying Data—Sections Affected: 3.103, 3.302; 9000-0022, Duty-Free Entry—FAR 48 CFR 52.225-8—FAR Section Affected: 52.225-8; 9000-0026, Change Order Accounting—43.205(f), 52.243-6; 9000-0027, Value Engineering Requirements—FAR Sections Affected: Subparts 48.1 and 48.2, 52.248-1, 52.248-2, 52.248-3; 9000-0034, Examination of Records 5 CFR 1320.5(b) by Comptroller General and Contract Audit—Sections Affected: 52.215-2, 52.212-5, 52.214-26; 9000-0045, Bid, Performance, and Payment Bonds—FAR Sections Affected: Subparts 28.1 and 28.2, 52.228-1, 52.228-2, 52.228-13, 52.228-15, 52.228-16; 9000-0058, Schedules for Construction Contracts—FAR Section Affected: 52.236-15; 9000-0060, Accident Prevention 48 CFR, 52.236-13, Plans and Recordkeeping—FAR Section Affected: 52.236-13; 9000-0065, Overtime—FAR Sections Affected: 22.103, 52.222-2; 9000-0066, Professional Employee Compensation Plan, Subpart 22.11, 52.222-46; 9000-0073, Advance Payments—FAR Sections Affected: Subpart 32.4 and 52.232-12; 9000-0077, Quality Assurance Requirements—FAR Sections Affected: Subparts 46.1 through 46.3, 52.246-2 through 52.246-8, 52.246-10, 52.246-12, 52.246-15; 9000-0080, Integrity of Unit Prices—Sections Affected: 15.408(f) and 52.215-14; 9000-0091, Anti-Kickback Procedures—FAR Sections Affected: 3.502, 52.203-7; 9000-0094, Debarment and Suspension, FAR Sections Affected: 9.1, 9.4, 52.209-5, 52.212-3(h); 9000-0101, Drug-Free Workplace—FAR Section Affected: 52.223-6(b)(5); 9000-0115, Notification of Ownership Changes—FAR Sections Affected: 15.408(k), 52.215-19; 9000-0133, Defense Production Act Amendments—FAR Sections Affected: 34.1 and 52.234-1; 9000-0134, Environmentally Sound Products—FAR Sections Affected: 23.406 and 52.223-4; 9000-0135, Prospective Subcontractor Requests for Bonds, FAR 28.106-4(b), 52.228-12; 1215-0072, OFCCP Recordkeeping and Reporting Requirements—Supply and Service; and 1215-0119, Requirements of a Bona Fide Thrift or Savings Plan (29 CFR part 547) and Requirements of a Bona Fide Profit-Sharing Plan or Trust (29 CFR part 549).

List of Subjects in 48 CFR Parts 1, 2, 3, 5, 6, 7, 8, 12, 13, 15, 16, 17, 19, 22, 23, 28, 32, 36, 42, 43, 50, and 52

Government procurement.

Dated: January 29, 2010.
Al Matera,
Director, Acquisition Policy Division.

Therefore, DoD, GSA, and NASA propose amending 48 CFR parts 1, 2, 3, 5, 6, 7, 8, 12, 13, 15, 16, 17, 19, 22, 23, 28, 32, 36, 42, 43, 50, and 52 as set forth below:

1. The authority citation for 48 CFR parts 1, 2, 3, 5, 6, 7, 8, 12, 13, 15, 16, 17, 19, 22, 23, 28, 32, 36, 42, 43, 50, and 52 continues to read as follows:

Authority: 40 U.S.C. 121(c); 10 U.S.C. chapter 137; and 42 U.S.C. 2473(c).

PART 1—FEDERAL ACQUISITION REGULATIONS SYSTEM

1.109 [Amended]

2. Amend section 1.109 by removing from paragraph (d) “http://acquisition.gov/far/facsframe.html” and adding “http://www.regulations.gov (search FAR case 2008-024)” in its place.

PART 2—DEFINITIONS OF WORDS AND TERMS

2.101 [Amended]

3. Amend section 2.101 in paragraph (b) by—

a. Amending the definition “Major system” by removing from paragraph (1) “$173.5 million” and adding “$193.5 million” in its place, removing “$814.5 million” and adding “$907.5 million” in its place; and removing from paragraph (2) “$1.8 million” and adding “$2 million” in its place;

b. Amending the definition “Micro-purchase threshold” by removing from paragraph (3)(ii) “$25,000” and adding “$30,000” in its place; and

c. Amending the definition “Simplified acquisition threshold” by removing from the introductory paragraph “$100,000” and adding “$150,000” in its place; and removing from paragraph (1) “$250,000” and adding “$300,000” in its place.

PART 3—IMPROPER BUSINESS PRACTICES AND PERSONAL CONFLICTS OF INTEREST

3.502-2 [Amended]

4. Amend section 3.502-2 by removing from paragraph (i) “$100,000” and adding “$150,000” in its place.

3.804 [Amended]

5. Amend section 3.804 by removing “$100,000” and adding “$150,000” in its place.

3.808 [Amended]

6. Amend section 3.808 by removing from paragraphs (a) and (b) “$100,000” and adding “$150,000” in its place.

PART 5—PUBLICIZING CONTRACT ACTIONS

5.101 [Amended]

7. Amend section 5.101 by removing from the introductory text of paragraph (a)(2) “$10,000” and adding “$15,000” in its place.

5.205 [Amended]

8. Amend section 5.205 by removing from paragraph (d)(2) “$10,000” and adding “$15,000” in its place.

5.206 [Amended]

9. Amend section 5.206 by—

a. Removing from paragraph (a)(1) “$100,000” and adding “$150,000” in its place; and

b. Removing from paragraph (a)(2) “$100,000” and adding “$150,000” in its place, and removing “$10,000” and adding “$15,000” in its place.

5.303 [Amended]

10. Amend section 5.303 by removing from the introductory text of paragraph (a) “$3.5 million” and adding “$4 million” in its place.

PART 6—COMPETITION REQUIREMENTS

6.304 [Amended]

11. Amend section 6.304 by—

a. Removing from paragraph (a)(1) “$550,000” and adding “$650,000” in its place;

b. Removing from paragraph (a)(2) “$550,000” and adding “$650,000” in its place, and removing “$11.5 million” and adding “$13 million” in its place;

c. Removing from the introductory text of paragraph (a)(3) “$11.5 million” and adding “$13 million” in its place, removing “$57 million” and adding “$64 million” in its place, and removing “$78.5 million” and adding “$87 million” in its place; and

d. Removing from paragraph (a)(4) “$57 million” and adding “$64 million” in its place, and removing “$78.5 million” and adding “$87 million” in its place.

PART 7—ACQUISITION PLANNING

7.104 [Amended]

12. Amend section 7.104 by—

a. Removing from paragraph (d)(2)(i)(A) “$7.5 million” and adding “$8 million” in its place;

b. Removing from paragraph (d)(2)(i)(B) “$5.5 million” and adding “$6 million” in its place; and

c. Removing from paragraph (d)(2)(i)(C) “$2 million” and adding “$2.5 million” in its place.

7.107 [Amended]

13. Amend section 7.107 by—

a. Removing from paragraph (b)(1) “$86 million” and adding “$95.5 million” in its place; and

b. Removing from paragraph (b)(2) “$8.6 million” and adding “$9.5 million” in its place, and removing “$86 million” and adding “$95.5 million” in its place.

PART 8—REQUIRED SOURCES OF SUPPLIES AND SERVICES

8.405-6 [Amended]

14. Amend section 8.405-6 by—

a. Removing from paragraph (h)(1) “$550,000” and adding “$650,000” in its place;

b. Removing from paragraph (h)(2) “$550,000” and adding “$650,000” in its place, and removing “$11.5 million” and adding “$13 million” in its place;

c. Removing from the introductory text of paragraph (h)(3) “$11.5 million” and adding “$13.5 million” in its place, removing “$57 million” and adding “$64 million” in its place, and removing “$78.5 million” and adding “$87 million” in its place; and

d. Removing from paragraph (h)(4) “$57 million” and adding “$64 million” in its place, and removing “$78.5 million” and adding “$87 million” in its place.

PART 12—ACQUISITION OF COMMERCIAL ITEMS

12.102 [Amended]

15. Amend section 12.102 by removing from the introductory text of paragraph (f)(2) “$16 million” and adding “$18 million” in its place; and removing from paragraph (g)(1)(ii) “$27 million” and adding “$30 million” in its place.

12.203 [Amended]

16. Amend section 12.203 by removing “$5.5 million” and adding “$6.5 million” in its place, and removing “$11 million” and adding “$12 million” in its place.

PART 13—SIMPLIFIED ACQUISITION PROCEDURES

13.000 [Amended]

17. Amend section 13.000 by removing “$5.5 million” and adding “$6.5 million” in its place, and removing “$11 million” and adding “$12 million” in its place.

13.003 [Amended]

18. Amend section 13.003 by—

a. Removing from paragraph (b)(1) “$100,000” and adding “$150,000” in its place, and removing “$250,000” and adding “$300,000” in its place;

b. Removing from paragraph (c)(1)(ii) “$5.5 million” and adding “$6.5 million” in its place, and removing “$11 million” and adding “$12 million” in its place; and

c. Removing from paragraph (g)(2) “$5.5 million” and adding “$6.5 million”, and removing “$11 million” and adding “$12 million” in its place.

13.005 [Amended]

19. Amend section 13.005 by removing from paragraph (a)(5) “$100,000” and adding “$150,000” in its place.

13.201 [Amended]

20. Amend section 13.201 by removing from paragraph (g)(1)(ii) “$25,000” and adding “$30,000” in its place.

13.303-5 [Amended]

21. Amend section 13.303-5 by—

a. Removing from paragraph (b)(1) “$5.5 million” and adding “$6.5 million” in its place, and removing “$11 million” and adding “$12 million” in its place; and

b. Removing from paragraph (b)(2) “$5.5 million” and adding “$6.5 million” in its place, and removing “$11 million” and adding “$12 million” in its place.

13.500 [Amended]

22. Amend section 13.500 by—

a. Removing from paragraph (a) “$5.5 million” and adding “$6.5 million” in its place, and removing “$11 million” and adding “$12 million” in its place; and

b. Removing from the introductory text of paragraph (e) “$11 million” and adding “$12 million” in its place.

13.501 [Amended]

23. Amend section 13.501 by—

a. Removing from paragraph (a)(2)(i) “$100,000” and adding “$150,000” in its place, and removing “$550,000” and adding “$650,000” in its place;

b. Removing from paragraph (a)(2)(ii) “$550,000” and adding “$650,000” in its place, and removing “$11.5 million” and adding “$13 million” in its place;

c. Removing from paragraph (a)(2)(iii) “$11.5 million” and adding “$13 million” in its place, removing “$57 million” and adding “$64 million” in its place, and removing “$78.5 million” and adding “$87 million” in its place; and

d. Removing from paragraph (a)(2)(iv) “$57 million” and adding “$64 million” in its place, and removing “$78.5 million” and adding “$87 million” in its place.

PART 15—CONTRACTING BY NEGOTIATION

15.304 [Amended]

24. Amend section 15.304 by removing from paragraph (c)(4) “$550,000” and adding “$650,000” in its place, and by removing “$1,000,000” and adding “$1.5 million” in its place.

15.403-1 [Amended]

25. Amend section 15.403-1 by removing from paragraph (c)(3)(iv) “$16 million” and adding “$18 million” in its place.

15.403-4 [Amended]

26. Amend section 15.403-4 by removing from the introductory texts of paragraphs (a)(1) and (a)(1)(iii) “$650,000” and adding “$700,000” in its place.

15.404-3 [Amended]

27. Amend section 15.404-3 by removing from paragraph (c)(1)(i) “$11.5 million” and adding “$13 million” in its place.

15.407-2 [Amended]

28. Amend section 15.407-2 by removing from paragraph (c)(1) and the introductory text of paragraph (c)(2) “$11.5 million” and adding “$13 million” in its place.

15.408 [Amended]

29. Amend section 15.408 in Table 15-2, “II. Cost Elements” which follows paragraph (n)(2)(iii), by removing from paragraph “A(2)” “$11.5 million” and adding “$13 million”.

PART 16—TYPES OF CONTRACTS

16.206-2 [Amended]

30. Amend section 16.206-2 by removing from the introductory paragraph “$100,000” and adding “$150,000” in its place.

16.206-3 [Amended]

31. Amend section 16.206-3 by removing from paragraph (a) “$100,000” and adding “$150,000” in its place.

16.207-3 [Amended]

32. Amend section 16.207-3 by removing from paragraph (d) “$100,000” and adding “$150,000” in its place.

16.503 [Amended]

33. Amend section 16.503 by removing from paragraph (b)(2) “$100 million” and adding “$105 million” in its place; and removing from paragraph (d)(1) “$11.5 million” and adding “$13 million” in its place.

16.504 [Amended]

34. Amend section 16.504 by removing from the introductory texts of paragraphs (c)(1)(ii)(D)(1) and (c)(1)(ii)(D)(3) “$100 million” and adding “$105 million” in its place; and removing from the introductory text of paragraph (c)(2)(i) “$11.5 million” and adding “$13 million” in its place.

16.505 [Amended]

35. Amend section 16.505 by—

a. Removing from the introductory text of paragraph (b)(1)(ii) “$5 million” and adding “$5.5 million” in its place;

b. Removing from the heading of paragraph (b)(1)(iii) “$5 million” and adding “$5.5 million” in its place, and removing “$5 million” and adding “$5.5 million” in its place; and

c. Removing from the heading of paragraph (b)(4) “$5 million” and adding “$5.5 million” in its place, and removing “$5 million” and adding “$5.5 million” in its place.

16.506 [Amended]

36. Amend section 16.506 by removing from paragraphs (f) and (g) “$11.5 million” and adding “$13 million” in its place.

PART 17—SPECIAL CONTRACTING METHODS

17.108 [Amended]

37. Amend section 17.108 by removing from paragraph (a) “$11.5 million” and adding “$13 million” in its place; and removing from paragraph (b) “$114.5 million” and adding “$127.5 million” in its place.

PART 19—SMALL BUSINESS PROGRAMS

19.502-2 [Amended]

38. Amend section 19.502-2 by—

a. Removing from paragraph (a) “$100,000” and adding “$150,000” in its place each time it appears (twice), and removing “$250,000” and adding “$300,000” in its place; and

b. Removing from paragraph (b) “$100,000” and adding “$150,000” in its place.

19.508 [Amended]

39. Amend section 19.508 by removing from paragraph (e) “$100,000” and adding “$150,000” in its place.

19.702 [Amended]

40. Amend section 19.702 by—

a. Removing from paragraph (a)(1) “$550,000” and adding “$650,000” in its place, and removing “$1,000,000” and adding “$1.5 million” in its place; and

b. Removing from paragraph (a)(2) “$550,000” and adding “$650,000” in its place, and removing “$1,000,000” and adding “$1.5 million” in its place.

19.704 [Amended]

41. Amend section 19.704 by removing from paragraph (a)(9) “$550,000” and adding “$650,000” in its place, and removing “$1,000,000” and adding “$1.5 million” in its place.

19.708 [Amended]

42. Amend section 19.708 by removing from paragraph (b)(1) “$550,000” and adding “$650,000” in its place, and removing “$1,000,000” and adding “$1.5 million” in its place.

19.805-1 [Amended]

43. Amend section 19.805-1 by removing from paragraph (a)(2) “$5.5 million” and adding “$6.5 million” in its place, and removing “$3.5 million” and adding “$4 million” in its place.

19.1202-2 [Amended]

44. Amend section 19.1202-2 by removing from paragraph (a) “$550,000” and adding “$650,000” in its place, and removing “$1,000,000” and adding “$1.5 million” in its place.

19.1306 [Amended]

45. Amend section 19.1306 by removing from paragraph (a)(2)(i) “$5.5 million” and adding “$6.5 million” in its place; and removing from paragraph (a)(2)(ii) “$3.5 million” and adding “$4 million” in its place.

19.1406 [Amended]

46. Amend section 19.1406 by removing from paragraph (a)(2)(i) “$5.5 million” and adding “$6 million” in its place; and removing from paragraph (a)(2)(ii) “$3 million” and adding “$3.5 million” in its place.

PART 22—APPLICATION OF LABOR LAWS TO GOVERNMENT ACQUISITIONS

22.305 [Amended]

47. Amend section 22.305 by removing from paragraph (a) “$100,000” and adding “$150,000” in its place.

22.602 [Amended]

48. Amend section 22.602 by removing “$10,000” and adding “$15,000” in its place.

22.603 [Amended]

49. Amend section 22.603 by removing from paragraph (b) “$10,000” and adding “$15,000” in its place.

22.605 [Amended]

50. Amend section 22.605 by removing from paragraphs (a)(1), (a)(2), (a)(3), and (a)(5) “$10,000” and adding “$15,000” in its place each time it appears (six times).

22.1103 [Amended]

51. Amend section 22.1103 by removing “$550,000” and adding “$650,000” in its place.

22.1402 [Amended]

52. Amend section 22.1402 by removing from paragraph (a) “$10,000” and adding “$15,000” in its place.

22.1408 [Amended]

53. Amend section 22.1408 by removing from the introductory text of paragraph (a) “$10,000” and adding “$15,000” in its place.

PART 23—ENVIRONMENT, ENERGY AND WATER EFFICIENCY, RENEWABLE ENERGY TECHNOLOGIES, OCCUPATIONAL SAFETY, AND DRUG-FREE WORKPLACE

23.406 [Amended]

54. Amend section 23.406 by removing from paragraph (d) “$100,000” and adding “$150,000” in its place.

PART 28—BONDS AND INSURANCE

28.102-1 [Amended]

55. Amend section 28.102-1 by removing from paragraphs (a) and (b)(1) “$100,000” and adding “$150,000” in its place.

28.102-2 [Amended]

56. Amend section 28.102-2 by removing from the headings of paragraphs (b) and (c) “$100,000” and adding “$150,000” in its place.

28.102-3 [Amended]

57. Amend section 28.102-3 by removing from paragraphs (a) and (b) “$100,000” and adding “$150,000” in its place.

PART 32—CONTRACT FINANCING

32.404 [Amended]

58. Amend section 32.404 by removing from paragraph (a)(7)(i) “$10,000” and adding “$15,000” in its place.

PART 36—CONSTRUCTION AND ARCHITECT—ENGINEER CONTRACTS

36.501 [Amended]

59. Amend section 36.501 by removing from paragraph (b) “$1,000,000” and adding “$1.5 million” in its place each time it appears (twice).

PART 42—CONTRACT ADMINISTRATION AND AUDIT SERVICES

42.709 [Amended]

60. Amend section 42.709 by removing from paragraph (b) “$650,000” and adding “$700,000” in its place.

42.709-6 [Amended]

61. Amend section 42.709-6 by removing “$650,000” and adding “$700,000” in its place.

42.1502 [Amended]

62. Amend section 42.1502 by removing from paragraph (e) “$550,000” and adding “$650,000” in its place each time it appears (twice).

PART 50—EXTRAORDINARY CONTRACTUAL ACTIONS AND THE SAFETY ACT

50.102-1 [Amended]

63. Amend section 50.102-1 by removing from paragraph (b) “$55,000” and adding “$65,000” in its place.

50.102-3 [Amended]

64. Amend section 50.102-3 by removing from paragraph (b)(4) “$28.5 million” and adding “$32 million” in its place; and removing from paragraphs (e)(1)(i) and (e)(1)(ii) “$55,000” and adding “$65,000” in its place.

PART 52—SOLICITATION PROVISIONS AND CONTRACT CLAUSES

52.203-7 [Amended]

65. Amend section 52.203-7 by removing from the clause heading “(Jul 1995)” and adding “(Date)” in its place; and removing from paragraph (c)(5) “$100,000” and adding “$150,000” in its place.

52.203-12 [Amended]

66. Amend section 52.203-12 by removing from the clause heading “(Sep 2007)” and adding “(Date)” in its place; and removing from paragraphs (g)(1) and (g)(3) “$100,000” and adding “$150,000” in its place.

52.204-8 [Amended]

67. Amend section 52.204-8 by removing from the provision heading “(Feb 2009)” and adding “(Date)” in its place; and removing from paragraph (c)(1)(ii) “$100,000” and adding “$150,000” in its place.

52.212-3 [Amended]

68. Amend section 52.212-3 by removing from the provision heading “(Aug 2009)” and adding “(Date)” in its place; and removing from paragraph (e) “$100,000” and adding “$150,000” in its place.

52.212-5 [Amended]

69. Amend section 52.212-5 by—

a. Removing from the clause heading “(Dec 2009)” and adding “(Date)” in its place;

b. Removing from paragraph (b)(11)(i) “(Apr 2008)” and adding “(Date)” in its place;

c. Removing from paragraph (b)(24) “(Jun 1998)” and adding “(Date)” in its place;

d. Removing from paragraph (e)(1)(ii) “$550,000” and adding “$650,000” in its place, and removing “$1,000,000” and adding “$1.5 million” in its place;

e. Removing from paragraph (e)(1)(vi) “(Jun 1998)” and adding “(Date)” in its place; and

f. In Alternate II by—

1. Removing from the Alternate heading “(Dec 2009)” and adding “(Date)” in its place;

2. Removing from paragraph (e)(1)(ii)(C) “$550,000” and adding “$650,000” in its place, and removing “$1,000,000” and adding “$1.5 million” in its place; and

3. Removing from paragraph (e)(1)(ii)(F) “(June 1998)” and adding “(Date)” in its place.

52.213-4 [Amended]

70. Amend section 52.213-4 by—

a. Removing from the clause heading “(Dec 2009)” and adding “(Date)” in its place;

b. Removing from paragraph (a)(2)(vi) “(Dec 2009)” and adding “(Date)” in its place;

c. Removing from paragraph (b)(1)(ii) “(Dec 1996)” and adding “(Date)” in its place, and removing “$10,000” and adding “$15,000” in its place; and

d. Removing from paragraph (b)(1)(iv) “(June 1998)” and adding “(Date)” in its place, and removing “$10,000” and adding “$15,000” in its place.

52.219-9 [Amended]

71. Amend section 52.219-9 by—

a. Removing from the clause heading “(Apr 2008)” and adding “(Date)” in its place;

b. Removing from paragraph (d)(9) “$550,000” and adding “$650,000” in its place, and removing “$1,000,000” and adding “$1.5 million” in its place;

c. Removing from the introductory text of paragraph (d)(11)(iii) “$100,000” and adding “$150,000” in its place; and

d. Removing from paragraph (l)(2)(i)(C) “$550,000” and adding “$650,000” in its place, and removing “$1,000,000” and adding “$1.5 million” in its place.

52.222-20 [Amended]

72. Amend section 52.222-20 by removing from the clause heading “(Dec 1996)” and adding “(Date)” in its place; and removing from the introductory paragraph “$10,000” and adding “$15,000” in its place.

52.222-36 [Amended]

73. Amend section 52.222-36 by removing from the clause heading “(Jun 1998)” and adding “(Date)” in its place; and removing from paragraph (d) “$10,000” and adding “$15,000” in its place.

52.225-8 [Amended]

74. Amend section 52.225-8 by removing from the clause heading “(Feb 2000)” and adding “(Date)” in its place; and removing from the introductory texts of paragraphs (c)(1) and (j)(2) “$10,000” and adding “$15,000” in its place.

52.228-15 [Amended]

75. Amend section 52.228-15 by removing from the clause heading “(Nov 2006)” and adding “(Date)” in its place; and removing from the introductory text of paragraph (b) “$100,000” and adding “$150,000” in its place.

52.244-6 [Amended]

76. Amend section 52.244-6 by—

a. Removing from the clause heading “(Dec 2009)” and adding “(Date)” in its place;

b. Removing from paragraph (c)(1)(iii) “$550,000” and adding “$650,000” in its place, and removing “$1,000,000” and adding “$1.5 million” in its place; and

c. Removing from paragraph (c)(1)(vi) “(Jun 1998)” and adding “(Date)” in its place.

52.248-1 [Amended]

77. Amend section 52.248-1 by removing from the clause heading “(Feb 2000)” and adding “(Date)” in its place; and removing from paragraph (l) “$100,000” and adding “$150,000” in its place.

52.248-3 [Amended]

78. Amend section 52.248-3 by removing from the clause heading “(Sep 2006)” and adding “(Date)” in its place; and removing from paragraph (h) “$55,000” and adding “$65,000” in its place.

[FR Doc. 2010-2318 Filed 2-3-10; 8:45 am]

BILLING CODE 6820-EP-P